DEPARTMENT OF HEALTH AND HUMAN SERVICES

Administration on Aging

Agency Information Collection Activities: Proposed Submission to the Office of Management and Budget (OMB) for Clearance; Comment Request; New Information Collection

AGENCY: Administration on Aging, HHS.

The Administration on Aging (AoA), Department of Health and Human Services, provides an opportunity for comment on the following proposal for the collection of information in compliance with the Paperwork Reduction Act (PRA; Pub. L. 96-511): National Outcome Measures Surveys of Older Americans Act (OAA) Clients.

Type of Request: New information collection.

Use: Consumer assessment data will be collected in this initial set of surveys to initiate national program outcome assessment consistent with the requirements of the Government Performance and Results Act and the Older Americans Act.

Frequency: One-time.

Respondents: Elderly individuals who have received selected services under Title 3 of the Older Americans Act.

Estimated Number of Responses: 3,500.

Total Estimated Burden Hours: 2,000.

Additional Information or Comments:

The Administration on Aging plans to submit to the Office of Management and Budget for approval the National Outcome Measures Surveys of Older Americans Act (OAA) Clients, pursuant to requirements set forth by congressional statute. Through a contract with WESTAT, Inc., AoA will draw samples of individuals served through Area Agencies on Aging across the country for the purpose of obtaining OAA program service assessments from these individuals. The surveys will utilize information collection instruments and methods developed and tested by experts in the field of gerontology and by State and local entities that administer OAA programs. The surveys will include assessments from among the following service categories: nutrition, transportation, caregiver support, home-care, and information and assistance.

Written comments and recommendations for the proposed information collection should be sent within 60 days of the publication of this notice directly to the following address: Office of Planning and Evaluation, Administration on Aging, Attention: David Bunoski, 330 Independence Avenue, SW., Rm. 4755, Washington, DC 20201.

Dated: November 27, 2001.
Josefina G. Carbonell,
Assistant Secretary for Aging.

[FR Doc. 01-29818 Filed 11-30-01; 8:45 am]

BILLING CODE 4154-01-P